DEPARTMENT OF COMMERCE

International Trade Administration

[A-122-847; C-122-848]

Antidumping Duty Investigation and Countervailing Duty Investigation of Hard Red Spring Wheat From Canada: Notice of Court Decision and Amended Revocation of Countervailing and Antidumping Duty Orders

AGENCY: Import Administration, International Trade Administration, Department of Commerce.

SUMMARY: On April 19, 2011, the United States Court of Appeals for the Federal Circuit (“CAFC”), in Canadian Wheat Board v. United States, 2010-1083 (Fed. Cir. 2011) (“Wheat Board (CAFC)”), held that the Department of Commerce (“the Department”) was required by law to instruct U.S. Customs and Border Protection (“CBP”) to liquidate all unliquidated entries of hard red spring wheat from Canada without regard to antidumping and countervailing duties. The CAFC's holding is now final and conclusive. Consistent with that holding, we are amending the revocation of these orders and instructing CBP to liquidate all unliquidated entries pursuant to the CAFC decision in Wheat Board (CAFC).

DATES: Effective Date: July 26, 2011.

FOR FURTHER INFORMATION CONTACT: Christine Taylor or Nancy Decker, AD/CVD Operations, Office 1, Import Administration, U.S. Department of Commerce, 14th Street and Constitution Avenue, NW., Washington, DC 20230; telephone (202) 482-8319 and (202) 482-0196, respectively.

SUPPLEMENTARY INFORMATION:

Background

The Canadian Wheat Board and Canadian government challenged the International Trade Commission's (“ITC”) final determination that the United States industry was being materially injured by reason of imports from Canada of hard red spring wheat before a North American Free Trade Agreement (“NAFTA”) Panel. As a result of that litigation, the ITC issued a remand redetermination that concluded that a domestic industry was not materially injured or threatened with material injury by reasons of imports of Canadian hard red spring wheat, and the NAFTA Panel affirmed that remand redetermination. North American Free-Trade Agreement, Article 1904 NAFTA Panel Reviews; Completion of Panel Review, 71 FR 4896 (Jan. 30, 2006). The Department therefore revoked the antidumping and countervailing duty orders of hard red spring wheat from Canada, effective January 2, 2006. See Antidumping Duty Investigation and Countervailing Duty Investigation of Hard Red Spring Wheat from Canada: Notice of Panel Decision, Revocation of Countervailing and Antidumping Duty Orders and Termination of Suspension of Liquidation, 71 FR 8275 (Feb. 16, 2006). The Department's revocation stated, however, that the revocation did not “affect the liquidation of entries made prior to January 2, 2006” See Id.

The Canadian Wheat Board and Canadian government challenged the Department's determination that its revocation did not apply to pre-January 2, 2006, entries at the Court of International Trade (“CIT”). On September 1, 2009, the CIT held that the Department must direct CBP to liquidate all pre-January 2, 2006, entries without regard to antidumping and countervailing duties. See Canadian Wheat Board v. United States, 637 F. Supp. 2d 1329 (Sept. 1, 2009). The Department appealed the CIT's holding and, on April 19, 2011, in Wheat Board (CAFC), the CAFC reached the same conclusion as the CIT. See Wheat Board (CAFC), 2010-1083 at *18.

Accordingly, the Department is now amending its February 16, 2006, revocation of the antidumping and countervailing duty orders covering hard red spring wheat from Canada, and will instruct CBP to: (1) Release any cash deposits or bonds, and proceed with liquidation of all unliquidated entries of hard red spring wheat from Canada without regard to antidumping duties and countervailing duties; and (2) refund, with interest, antidumping and countervailing duty cash deposits collected pursuant to the revoked antidumping and countervailing duty orders.

Dated: July 19, 2011.
Ronald K. Lorentzen,
Deputy Assistant Secretary for Import Administration.

[FR Doc. 2011-18882 Filed 7-25-11; 8:45 am]

BILLING CODE 3510-DS-P